DEPARTMENT OF LABOR

Employment and Training Administration

[TA-W-59,377]

St. John Knits Inc.; Santa Ana, CA; Notice of Termination of Investigation

Pursuant to Section 221 of the Trade Act of 1974, as amended, an investigation was initiated on May 12, 2006 in response to a petition filed by a state agency representative on behalf of workers St. John Knits in Santa Ana, California.

The petitioning group of workers is covered by an active certification, TA-W-55,790 which expires on November 8, 2006. Consequently, further investigation in this case would serve no purpose, and the investigation has been terminated.

Signed in Washington, DC, this 1st day of June 2006.
Richard Church,
Certifying Officer, Division of Trade Adjustment Assistance.

[FR Doc. E6-9994 Filed 6-23-06; 8:45 am]

BILLING CODE 4510-30-P